DEPARTMENT OF COMMERCE

Foreign-Trade Zones Board

[B-62-2024]

Foreign-Trade Zone (FTZ) 49, Notification of Proposed Production Activity; Sanofi US Services Inc.; (Pharmaceutical Products); Ridgefield, New Jersey

Sanofi US Services Inc. submitted a notification of proposed production activity to the FTZ Board (the Board) for its facilities in Ridgefield, New Jersey within FTZ 49. The notification conforming to the requirements of the Board's regulations (15 CFR 400.22) was received on December 18, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is Beyfortus® (Nirsevimab)—dosage form vaccine (duty-free).

The proposed foreign-status materials/components include Beyfortus® (Nirsevimab monoclonal antibody active pharmaceutical ingredient)—unmixed and mixed drug substance (duty-free).

Public comment is invited from interested parties. Submissions shall be addressed to the Board's Executive Secretary and sent to: ftz@trade.gov. The closing period for their receipt is February 18, 2025.

A copy of the notification will be available for public inspection in the “Online FTZ Information System” section of the Board's website.

For further information, contact Diane Finver at Diane.Finver@trade.gov.

Dated: December 31, 2024.
Elizabeth Whiteman,
Executive Secretary.

[FR Doc. 2024-31702 Filed 1-3-25; 8:45 am]

BILLING CODE 3510-DS-P